DEPARTMENT OF THE INTERIOR

Bureau of Safety and Environmental Enforcement

[EEEE500000 234E1700D2 ET1SF0000.EAQ000; BOEM-2021-0043]

Programmatic Environmental Impact Statement for Oil and Gas Decommissioning Activities on the Pacific Outer Continental Shelf, Extending Comment Period

AGENCY: Bureau of Safety and Environmental Enforcement (BSEE), Interior.

ACTION: Notice of extension of the public comment period.

SUMMARY: BSEE is extending the public comment period for the Draft Programmatic Environmental Impact Statement (PEIS) for Oil and Gas Decommissioning Activities on the Pacific Outer Continental Shelf (OCS) [EIS No. 20220156].

DATES: BSEE published the Notice of Availability (NOA) for the PEIS on October 12, 2022, and opened a public comment period through November 28, 2022. BSEE is extending this public comment period to January 10, 2023.

ADDRESSES: You may submit comments in writing or through www.regulations.gov. Written comments may be delivered by hand or by mail, enclosed in an envelope labeled, “Pacific Decommissioning” and addressed to Richard Yarde, Regional Supervisor, Office of Environment, BOEM Pacific Region, 760 Paseo Camarillo, Suite 102, Camarillo, CA, 93010. Comments may also be submitted online through the regulations.gov web portal: Navigate to http://www.regulations.gov and search for Docket No. BOEM-2021-0043. Click on the “Comment Now!” button to the right of the document link. Enter your information and comment, then click “Submit.”

FOR FURTHER INFORMATION CONTACT: For information on the PEIS, contact Richard Yarde, Regional Supervisor, Office of Environment, at richard.yarde@boem.gov or 805-384-6379.

Individuals who use telecommunication devices for the deaf (TDD) may call the Federal Information Relay Service (FIRS) at 800-877-8339 between 8 a.m. and 8 p.m., Eastern Time, Monday through Friday.

SUPPLEMENTARY INFORMATION: On October 12, 2022, BSEE published a notice in the Federal Register [87 FR 61628] that provided a 47-day public comment period on the Draft PEIS for Oil and Gas Decommissioning Activities on the Pacific OCS, which would close on November 28, 2022. On October 28, 2022, the Environmental Protection Agency (EPA) published a notice in the Federal Register [87 FR 65202] that also provided a 45-day public comment period on the Draft PEIS for Oil and Gas Decommissioning Activities on the Pacific OCS, which will close on December 12, 2022. BSEE has received numerous requests from the public seeking longer extensions to the comment period. In consideration of the EPA's public comment period, the numerous requests seeking extensions to the comment period, and to ensure robust public comments, BSEE is extending the public comment period by an additional twenty-nine days beyond December 12, 2022, to January 10, 2023.

Kevin Sligh,
Director, Bureau of Safety and Environmental Enforcement.

[FR Doc. 2022-25745 Filed 11-23-22; 8:45 am]

BILLING CODE 4310-VH-P